DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere on matters related to the responsibilities and authorities set forth in section 303 of the Hydrographic Services Improvement Act of 1998, as amended, and such other appropriate matters that the Under Secretary refers to the Panel for review and advice.

Date and Time: The public meeting will be held on September 16-18, 2014. September 16th from 9:00 a.m. to 2:30 p.m., September 17th from 8:00 a.m. to 5:00 p.m. and September 18th from 8:00 a.m. to 2:15 p.m. EDT.

Location: Courtyard Marriott, 125 Calhoun St., Charleston, South Carolina, 29401, tel: (843) 805-7900.

FOR FURTHER INFORMATION CONTACT: Lynne Mersfelder-Lewis, HSRP Coordinator, National Ocean Service (NOS), Office of Coast Survey, NOAA (N/CS), 1315 East West Highway, Silver Spring, Maryland 20910; Telephone: 301-713-2702 ext. 199; Fax: 301-713-4019; Email: lynne.mersfelder@noaa.gov or visit the NOAA HSRP Web site at http://nauticalcharts.noaa.gov/ocs/hsrp/hsrp.htm.

SUPPLEMENTARY INFORMATION: The meeting will be open to the public and public comment periods (on-site) will be scheduled at various times throughout the meeting. These comment periods will be included in the final agenda published before September 10, 2014, on the HSRP Web site listed above. Each individual or group making verbal comments will be limited to a total time of five (5) minutes. Comments will be recorded. Written comments should be submitted to lynne.mersfelder@noaa.gov by September 10, 2014. Written comments received after September 10, 2014, will be distributed to the HSRP, but may not be reviewed until the meeting. Public seating will be available on a first-come, first-served basis. Times and agenda topics are subject to change. Refer to the HSRP Web site listed below for meeting agenda information. http://nauticalcharts.noaa.gov/ocs/hsrp/hsrp.htm

Matters To Be Considered: Regional and local stakeholders will present to the HSRP on issues relevant to NOAA's navigation and positioning data, products, and services. Broad topic areas to be heard about will focus on the use and application of NOAA's navigation and positioning data, products, and services to support: (1) The U.S. Southeast regional marine transportation system and economy; (2) regional dredging and port expansion efforts; (3) navigation safety for the Atlantic Intracoastal Waterway and recreational boating; and (4) geospatial modeling data to support local and regional coastal planning and development, risk reduction strategies for building coastal resilient communities, and for pre-storm and post-storm resilience preparation.

The HSRP will also hold focused stakeholder breakout sessions with regional and local stakeholders to further discuss challenges and issues presented during the stakeholder speaker panel presentation, and other issues not previously presented. The stakeholder breakout sessions will be held on Wednesday, September 17th with the general themes: (1) Port and harbor expansion; (2) Atlantic Intracoastal Waterway and recreational boating; and (3) geospatial modeling and coastal resilience. The public is invited to participate and sign up for these sessions by contacting NOAA's Northeast Navigation Manager, Kyle Ward at email: Kyle.Ward@noaa.gov; or the HSRP Coordinator, Lynne Mersfelder-Lewis at email: Lynne.Mersfelder@noaa.gov.

The stakeholder breakout sessions provides the public with the opportunity to interact with HSRP members on concerns or issues with NOAA's navigation and positioning data, products, and services, and to present options or recommendations for improvement. The HSRP will consider input from these breakout sessions, and from the other meeting presentations, to develop its recommendations to the NOAA Acting Under Secretary for improving NOAA's suite of navigation and positioning data, products, and services. Other matters to be discussed include activities relating to hydrography, geodesy, coastal mapping, and tides, currents and water levels, as well as administrative matters pertaining to the HSRP.

The HSRP meeting will provide GoTo Webinar services and teleconference capability for public access to listen and observe the meeting presentations. Members of the public who wish to participate virtually must register in advance by September 10, 2014. Webinar service is available for Tuesday, September 15th from 9:00 a.m. to 2:30 p.m., Wednesday, September 17th from 8:00 a.m. to 1:00 p.m. and from 2:45 p.m. to 5:00 p.m., and on Thursday, September 18th from 8:30 a.m. to 2:15 p.m. EDT. To register for virtual access or submit public comments before the virtual sessions begin please contact Lynne Mersfelder-Lewis at email: Lynne.Mersfelder@noaa.gov.

Dated: August 26, 2014.
Donna Rivelli,
Deputy Associate Assistant Administrator for Management and CFO/CAO, National Ocean Service, National Oceanic and Atmospheric Administration.

[FR Doc. 2014-20746 Filed 8-29-14; 8:45 am]

BILLING CODE 3510-JE-P